DEPARTMENT OF THE INTERIOR

National Park Service

General Management Plan, Final Environmental Impact Statement, Sunset Crater Volcano and Wupatki National Monuments, AZ

AGENCY: National Park Service, Department of the Interior.

ACTION: Notice of availability of a Record of Decision on the Final Environmental Impact Statement for the General Management Plans for Sunset Crater Volcano and Wupatki National Monuments.

SUMMARY: Pursuant to section 102(2)(C) of the National Environmental Policy Act of 1969, Pub. L. 91-190, 83 Stat. 852, 853, codified as amended at 42 U.S.C. 4332(2)(C), the National Park Service announces the availability of the Record of Decision for the General Management Plan, Sunset Crater Volcano and Wupatki National Monuments, Arizona. On March 3, 2004, the Director, Intermountain Region approved the Record of Decision for the project. As soon as practicable, the National Park Service will begin to implement the Preferred Alternative contained in the FEIS issued on February 16, 2003. The preferred alternative and other alternatives were analyzed in the Draft and Final Environmental Impact Statements. The full range of foreseeable environmental consequences was assessed, and appropriate mitigating measures were identified.

The Record of Decision includes a statement of the decision made, synopses of other alternatives considered, the basis for the decision, a description of the environmentally preferable alternative, a finding on impairment of park resources and values, a listing of measures to minimize environmental harm, and an overview of public involvement in the decision-making process.

FOR FURTHER INFORMATION CONTACT: Todd Metzger, Acting Superintendent, Flagstaff Area Monuments, 6400 N. Highway 89, Flagstaff, Arizona, 86004 (928) 526-1157.

SUPPLEMENTARY INFORMATION: Copies of the Record of Decision may be obtained from the contact listed above.

Dated: March 3, 2004.
Stephen P. Martin,
Director, Intermountain Region, National Park Service.

[FR Doc. 04-11163 Filed 5-17-04; 8:45 am]

BILLING CODE 4312-DY-P